ENVIRONMENTAL PROTECTION AGENCY

40 CFR Part 52

[EPA-R08-OAR-2015-0026; FRL-9928-81-Region 8]

Approval and Promulgation of Air Quality Implementation Plans; North Dakota; Alternative Monitoring Plan for Milton R. Young Station

AGENCY: Environmental Protection Agency.

ACTION: Direct final rule.

SUMMARY: The Environmental Protection Agency (EPA) is taking direct final action to approve a State Implementation Plan (SIP) revision submitted by the State of North Dakota. On April 8, 2013, the Governor of North Dakota submitted to EPA an alternative monitoring plan for Milton R. Young Station (MRYS). The plan relates to continuous opacity monitoring for Unit 1 at MRYS. The intended effect of this action is to approve a state plan established to address minimum emission monitoring requirements. The EPA is taking this action under section 110 of the Clean Air Act (CAA).

DATES: This rule is effective on August 31, 2015 without further notice, unless EPA receives adverse comment by July 30, 2015. If adverse comment is received, EPA will publish a timely withdrawal of the direct final rule in the Federal Register informing the public that the rule will not take effect.

ADDRESSES: Submit your comments, identified by Docket ID No. EPA-R08-OAR-2015-0026, by one of the following methods:

• http://www.regulations.gov. Follow the on-line instructions for submitting comments.

• Email: Fallon.Gail@epa.gov.

• Fax: (303) 312-6064 (please alert the individual listed in the FOR FURTHER INFORMATION CONTACT if you are faxing comments).

• Mail: Director, Air Program, Environmental Protection Agency (EPA), Region 8, Mailcode 8P-AR, 1595 Wynkoop Street, Denver, Colorado 80202-1129.

• Hand Delivery: Director, Air Program, Environmental Protection Agency (EPA), Region 8, Mailcode 8P-AR, 1595 Wynkoop Street, Denver, Colorado 80202-1129. Such deliveries are only accepted Monday through Friday, 8:00 a.m. to 4:30 p.m., excluding federal holidays. Special arrangements should be made for deliveries of boxed information.

Instructions: Direct your comments to Docket ID No. EPA-R08-OAR-2015-0026. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov Web site is an “anonymous access” system, which means EPA will not know your identity or contact information unless you provide it in the body of your comment. If you send an email comment directly to EPA without going through http://www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional instructions on submitting comments, go to Section I, General Information of the SUPPLEMENTARY INFORMATION section of this document.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Air Program, EPA, Region 8, Mailcode 8P-AR, 1595 Wynkoop Street, Denver, Colorado 80202-1129. EPA requests that if at all possible, you contact the individual listed in the FOR FURTHER INFORMATION CONTACT section to view the hard copy of the docket. You may view the hard copy of the docket Monday through Friday, 8:00 a.m. to 4:00 p.m., excluding federal holidays.

FOR FURTHER INFORMATION CONTACT: Gail Fallon, Air Program, EPA, Region 8, Mailcode 8P-AR, 1595 Wynkoop Street, Denver, Colorado, 80202-1129, (303) 312-6218, Fallon.Gail@epa.gov.

SUPPLEMENTARY INFORMATION:

Table of Contents

I. General Information

II. Background

III. Revision in the April 8, 2013 Submittal That Is the Subject of This Document

IV. EPA's Analysis of SIP Revision

V. Consideration of Section 110(l) of the Clean Air Act

VI. Final Action

VII. Incorporation by Reference

VIII. Statutory and Executive Order Reviews

I. General Information

A. What should I consider as I prepare my comments for EPA?

1. Submitting CBI. Do not submit this information to EPA through http://regulations.gov or email. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for Preparing Your Comments. When submitting comments, remember to:

a. Identify the rulemaking by docket number and other identifying information (subject heading, Federal Register date and page number).

b. Follow directions—The agency may ask you to respond to specific questions or organize comments by referencing a Code of Federal Regulations (CFR) part or section number.

c. Explain why you agree or disagree; suggest alternatives and substitute language for your requested changes.

d. Describe any assumptions and provide any technical information and/or data that you used.

e. If you estimate potential costs or burdens, explain how you arrived at your estimate in sufficient detail to allow for it to be reproduced.

f. Provide specific examples to illustrate your concerns, and suggest alternatives.

g. Explain your views as clearly as possible, avoiding the use of profanity or personal threats.

h. Make sure to submit your comments by the comment period deadline identified.

II. Background

Sections 110(a)(2) and 110(l) of the CAA require that a state provide reasonable notice and public hearing before adopting a SIP revision and submitting it to us. To provide for public comment, the North Dakota Department of Health (NDDH), after providing notice, offered to hold a public hearing for the alternative monitoring plan for MRYS Unit 1. No one requested a public hearing so a hearing was not conducted. No one provided comments on the plan. Following the comment period and legal review by the North Dakota Attorney General's Office, NDDH adopted the alternative monitoring plan for MRYS Unit 1 as a SIP revision on March 1, 2013. The Governor submitted the SIP revision to EPA on April 8, 2013. EPA acted separately on a portion of the April 8, 2013 submittal that revised Chapter 2, Section 2.15, Respecting Boards. 78 FR 45866, July 30, 2013.

III. Revision in the April 8, 2013 Submittal That Is the Subject of This Document

Minnkota Power Cooperative, Inc. (Minnkota) currently operates MRYS Unit 1, a coal-fired electric generating unit located near Center, North Dakota. Unit 1 was constructed in the late 1960's and began operating in 1970. Minnkota is required to continuously monitor the opacity of emissions from Unit 1 according to 40 CFR part 51, appendix P, and North Dakota SIP Chapter 8, Source Surveillance.

The revision in the April 8, 2013 submittal to be addressed in this document included a revision to SIP Chapter 8, Source Surveillance, to provide an alternative monitoring plan for MRYS Unit 1. In May 1977, NDDH modified the permit to operate for Unit 1 requiring the installation and operation of continuous opacity monitoring (COM) equipment for emissions at Unit 1, and the opacity has been continuously monitored since the compliance date of August 30, 1978.

In 2006, Minnkota entered into a consent decree with NDDH and EPA to settle allegations of noncompliance under the Prevention of Significant Deterioration Program. As part of this settlement, Minnkota was required to control sulfur dioxide emissions from Unit 1. Minnkota has installed a wet scrubber which treats all of the flue gas from Unit 1 and achieves 95% reduction of the inlet sulfur dioxide. However, the large amount of moisture from the scrubber has made monitoring of the opacity in accordance with the requirements of 40 CFR part 51, appendix P, section 3.1.1 infeasible. Specifically, water droplets contained in the flue gas could potentially result in the existing continuous opacity monitor's overstating the true opacity.

Because of this change in circumstances, Minnkota requested alternative monitoring requirements for MRYS Unit 1 under 40 CFR part 51, appendix P, sections 6.0 and 6.1. NDDH agreed with Minnkota that such alternative monitoring procedures and requirements were warranted given that the excess moisture in the stack from the wet scrubber interferes with the COM and makes the COM data inaccurate. As a result, NDDH revised SIP Chapter 8, “Source Surveillance,” Section 8.3, “Continuous Emission Monitoring Requirements for Existing Stationary Sources, including amendments to Permits to Operate and Department Order.” The revision provided for a new Section 8.3.2, “Continuous Opacity Monitoring for M.R. Young Station Unit 1 Main Boiler.” This new section provides alternative monitoring procedures and requirements for MRYS Unit 1.

Under North Dakota Administrative Code (NDAC) 33-15-03-01.2, MRYS Unit 1 is subject to a 20% opacity limit, except for one 6-minute period per hour in which up to 40% opacity is allowed. Without the scrubber, Minnkota was able to comply with the 20% opacity limit with limited exceedances. We obtained monthly exceedance report data from the State which indicate that opacity readings greater than the 20% standard occurred only 0.30 percent of the time for the 2008 through 2010 three-year average.¹ The State has indicated that the addition of the wet scrubber would be expected to reduce visible emissions further.

¹ The State created a spreadsheet entitled, “Unit 1 Opacity Exceedances.xlsx,” with the exceedance report data and this is included in the docket.

Under the alternative monitoring plan, Minnkota will ensure compliance with the opacity limit through the use of a continuous emissions monitoring system (CEMS) for particulate matter (PM) as well as periodic visible emissions reading using test method 9 from 40 CFR part 60, appendix A. Minnkota must comply with specific monitoring, recordkeeping, and reporting requirements of 40 CFR 60 as listed in the alternative monitoring plan in Section 8.3.2 for both the PM CEMS and the visible emissions testing. Among these requirements are:

1. Minnkota must conduct weekly Method 9 tests for six consecutive weeks during regular source operation. If compliance with opacity is demonstrated from the weekly tests, Minnkota can begin conducting monthly tests. If excess emissions are identified, the tests revert to a weekly frequency.

2. Minnkota must monitor the filterable PM emission rate with PM CEMS. The PM emission rate may not exceed 0.052 lb/MMBtu (pounds per one million British Thermal Units) (3-hour average).

3. Minnkota must keep records of all PM and visible emissions readings and must keep these records for at least five years.

4. Minnkota must submit quarterly excess emissions reports for both the PM CEMS and visible emissions readings. The reports must also list any time periodic monitoring is not conducted as outlined in Section 8.3.2. Minnkota must also submit annual certifications indicating compliance with the visible emission limit.

Minnkota has developed a Compliance Assurance Monitoring (CAM) plan for PM in accordance with 40 CFR 64. The CAM plan indicates that 20% opacity occurs with a filterable PM emission rate of 0.062 lb/MMBtu. The alternative monitoring plan sets the filterable PM emission limit at 0.052 lb/MMBtu (3-hour average) with a 20% visible emission limit (6-minute average). The PM emission limit thus allows for a modest safety margin when compared to the 0.062 lb/MMBtu emission rate. For the purposes of this SIP revision, the PM CEMS is used only for demonstrating compliance with the visible emissions standard. This SIP revision does not cover monitoring for demonstrating compliance with the particulate matter emission limit for this unit.²

² For purposes of demonstrating compliance with PM emissions, Minnkota is required to demonstrate compliance with an emission limit of 0.03 lb/MMBtu for MRYS Unit 1 based on annual stack testing under a consent decree between EPA, the State of North Dakota, Minnkota, and Square Butte Electric Cooperative (Civil Action No. 1:06-CV-034).

Once the SIP revision is approved by EPA, NDDH will begin the procedures required under NDAC 33-15-14-06(6)(e) to modify the source's Title V permit by incorporating the alternative monitoring requirements into the permit. NDDH will then have the authority to enforce the SIP revision like any other permit condition.

IV. EPA's Analysis of SIP Revision

We agree that the addition of the wet scrubber at MRYS Unit 1 necessitates an alternate means of demonstrating opacity compliance, and that the wet scrubber will further reduce visible emissions from this unit. We have evaluated the SIP revision that North Dakota submitted for this purpose and have determined that the State met the requirements for reasonable notice and public hearing under section 110(a)(2) of the CAA. On October 8, 2013, by operation of law under CAA section 110(k)(1)(B), the SIP revision was deemed to have met the minimum “completeness” criteria found in 40 CFR part 51, appendix V.

We are also satisfied that this SIP revision will ensure that Minnkota complies with the requirements of 40 CFR 51.214 and 40 CFR part 51, appendix P, to continuously monitor opacity emissions, and that it will be adequate to ensure that Minnkota complies with the SIP opacity limits for MRYS Unit 1. We reviewed the alternative monitoring plan—in particular, the PM emission limit of 0.052 lb/MMBtu (3-hour average)—in conjunction with the CAM plan, and we agree that this limit will ensure equivalency of monitoring methods and compliance with the opacity limit as required by our regulations. Furthermore, it is unlikely that the opacity limits will be exceeded, as the consent decree PM emission limit of 0.03 lb/MMBtu would be triggered first.³

³ Id.

V. Consideration of Section 110(l) of the Clean Air Act

Section 110(l) of the CAA states that a SIP revision cannot be approved if the revision would interfere with any applicable requirement concerning attainment and reasonable further progress towards attainment of the National Ambient Air Quality Standards (NAAQS) or any other applicable requirements of the CAA. There are no nonattainment areas in North Dakota. The revision to SIP Chapter 8 regarding the alternative monitoring plan for MRYS Unit 1 adequately details monitoring parameters, frequency of monitoring, the PM emission limit, recordkeeping, and reporting requirements to ensure that the source can comply with requirements to continuously monitor opacity emissions, and the revision will be adequate to ensure that Minnkota complies with the SIP opacity limits for MRYS Unit 1. Therefore, this revision does not interfere with attainment or maintenance of the NAAQS or other applicable requirements of the CAA.

VI. Final Action

EPA is approving a revision to the North Dakota SIP that the Governor of North Dakota submitted on April 8, 2013. Specifically, EPA is approving an alternative monitoring plan for MRYS. The plan relates to continuous opacity monitoring for Unit 1 at MRYS. EPA acted previously on a portion of the April 8, 2013 submittal that revised Chapter 2, Section 2.15, Respecting Boards. 78 FR 45866, July 30, 2013.

EPA is publishing this rule without prior proposal because the Agency views this as a noncontroversial revision and anticipates no adverse comments. However, in the Proposed Rules section of today's Federal Register publication, EPA is publishing a separate document that will serve as the proposal to approve the SIP revision if adverse comments are filed. This rule will be effective August 31, 2015 without further notice unless the Agency receives adverse comments by July 30, 2015. If the EPA receives adverse comments, EPA will publish a timely withdrawal in the Federal Register informing the public that the rule will not take effect. EPA will address all public comments in a subsequent final rule based on the proposed rule. The EPA will not institute a second comment period on this action. Any parties interested in commenting must do so at this time. Please note that if EPA receives adverse comment on an amendment, paragraph, or section of this rule and if that provision may be severed from the remainder of the rule, EPA may adopt as final those provisions of the rule that are not the subject of an adverse comment.

VII. Incorporation by Reference

In this rule, the EPA is finalizing regulatory text that includes incorporation by reference. In accordance with requirements of 1 CFR 51.5, the EPA is finalizing the incorporation by reference the North Dakota Department of Health rules described in the amendments to 40 CFR part 52 set forth below. The EPA has made, and will continue to make, these documents generally available electronically through www.regulations.gov and/or in hard copy at the appropriate EPA office (see the ADDRESSES section of this preamble for more information).

VIII. Statutory and Executive Order Reviews

Under the Clean Air Act, the Administrator is required to approve a SIP submission that complies with the provisions of the Act and applicable federal regulations. 42 U.S.C. 7410(k); 40 CFR 52.02(a). Thus, in reviewing SIP submissions, EPA's role is to approve state choices, provided that they meet the criteria of the Clean Air Act. Accordingly, this action merely approves state law as meeting federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq, as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by August 31, 2015. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. (See section 307(b)(2).)

List of Subjects in 40 CFR Part 52

Environmental protection, Air pollution control, Carbon monoxide, Incorporation by reference, Intergovernmental relations, Particulate matter, Reporting and recordkeeping requirements, Sulfur oxides.

Authority: 42 U.S.C. 7401 et seq.

Dated: June 9, 2015.
Shaun L. McGrath,
Regional Administrator, Region 8.

40 CFR part 52 is amended to read as follows:

PART 52—APPROVAL AND PROMULGATION OF IMPLEMENTATION PLANS

1. The authority citation for Part 52 continues to read as follows:

Authority: 42 U.S.C. 7401 et seq.

Subpart JJ—North Dakota

2. In § 52.1820, the table in paragraph (d) is amended by revising the second entry under “Milton R. Young Station Unit 1” and adding a new entry for “Milton R. Young Station Unit 1” to read as follows:

§ 52.1820 Identification of plan.

* * * * *

(d) * * *

Name of source | Nature of requirement | State effective date | EPA approval date and citation ³ | Explanations
* * * * * * *
Milton R. Young Station Unit 1 | Air pollution control permit to construct for best available retrofit technology (BART), PTC10007 | 2/23/10 | 4/6/12, 77 FR 20894
Milton R. Young Station Unit 1 | SIP Chapter 8, Section 8.3.2, Continuous Opacity Monitoring for M.R. Young Station Unit 1 Main Boiler | 3/1/13 | 6/30/15, [Insert Federal Register citation.
* * * * * * *
³ In order to determine the EPA effective date for a specific provision listed in this table, consult the Federal Register notice cited in this column for the particular provision.

* * * * *

[FR Doc. 2015-15533 Filed 6-29-15; 8:45 am]

BILLING CODE 6560-50-P